DEPARTMENT OF TRANSPORTATION

Federal Aviation Administration

14 CFR Part 71

[Docket No. FAA-2009-0926; Airspace Docket No. 09-ASW-26]

Amendment of Class E Airspace; Dallas-Fort Worth, TX

AGENCY: Federal Aviation Administration (FAA), DOT.

ACTION: Final rule.

SUMMARY: This action amends Class E airspace in the Dallas-Fort Worth, TX area. Additional controlled airspace is necessary to accommodate new Area Navigation (RNAV) Standard Instrument Approach Procedures (SIAP) at Bridgeport Municipal Airport, Bridgeport, TX. The FAA is taking this action to enhance the safety and management of Instrument Flight Rule (IFR) operations at Bridgeport Municipal Airport.

DATES: Effective 0901 UTC, July 29, 2010. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On November 9, 2009, the FAA published in the Federal Register a notice of proposed rulemaking to amend Class E airspace for the Dallas-Fort Worth, TX area (74 FR 57617) Docket No. FAA-2009-0926. Interested parties were invited to participate in this rulemaking effort by submitting written comments on the proposal to the FAA. No comments were received. Class E airspace designations are published in paragraph 6005 of FAA Order 7400.9T signed August 27, 2009, and effective September 15, 2009, which is incorporated by reference in 14 CFR 71.1. The Class E airspace designations listed in this document will be published subsequently in the Order.

The Rule

This action amends Title 14 Code of Federal Regulations (14 CFR) part 71 by amending Class E airspace for the Dallas-Fort Worth, TX area, adding additional controlled airspace extending upward from 700 feet above the surface to accommodate SIAPs at Bridgeport Municipal Airport, Bridgeport, TX. Adjustments to the geographic coordinates will be made in accordance with the FAA's National Aeronautical Charting Office, as well as a name change for McKinney Municipal Airport to Collin County Regional Airport, McKinney, TX. This action is necessary for the safety and management of IFR operations. With the exception of editorial changes and the changes described above, this rule is the same as that proposed in the NPRM.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, section 106, describes the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it amends controlled airspace in the Dallas-Fort Worth, TX area.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009, is amended as follows:

* * * * *

Paragraph 6005 Class E airspace areas extending upward from 700 feet or more above the surface.

* * * * *

ASW TX E5 Dallas-Fort Worth, TX [Amended]

Dallas-Fort Worth International Airport, TX

(Lat. 32°53′49″ N., long. 97°02′17″ W.)

McKinney, Collin County Regional Airport, TX

(Lat. 33°10′41″ N., long. 96°35′26″ W.)

Rockwall, Rockwall Municipal Airport, TX

(Lat. 32°55′50″ N., long. 96°26′08″ W.)

Mesquite, Mesquite Metro Airport, TX

(Lat. 32°44′49″ N., long. 96°31′50″ W.)

Mesquite NDB

(Lat. 32°48′34″ N., long. 96°31′45″ W.)

Mesquite Metro ILS Localizer

(Lat. 32°44′03″ N., long. 96°31′50″ W.)

Lancaster, Lancaster Airport, TX

(Lat. 32°34′45″ N., long. 96°43′09″ W.)

Lancaster NDB

(Lat. 32°34′40″ N., long. 96°43′18″ W.)

Point of Origin

(Lat. 32°51′57″ N., long. 97°01′41″ W.)

Fort Worth, Fort Worth Spinks Airport, TX

(Lat. 32°33′55″ N., long. 97°18′29″ W.)

Cleburne, Cleburne Municipal Airport, TX

(Lat. 32°21′14″ N., long. 97°26′02″ W.)

Fort Worth, Bourland Field Airport, TX

(Lat. 32°34′54″ N., long. 97°35′27″ W.)

Granbury, Granbury Regional Airport, TX

(Lat. 32°26′40″ N., long. 97°49′01″ W.)

Weatherford, Parker County Airport, TX

(Lat. 32°44′47″ N., long. 97°40′57″ W.)

Bridgeport, Bridgeport Municipal Airport, TX

(Lat. 33°10′31″ N., long. 97°49′42″ W.)

Decatur, Decatur Municipal Airport, TX

(Lat. 33°15′15″ N., long. 97°34′50″ W.)

That airspace extending upward from 700 feet above the surface within a 30-mile radius of Dallas-Fort Worth International Airport, and within a 6.6-mile radius of Collin County Regional Airport at McKinney, and within 1.8 miles each side of the 002° bearing from the Collin County Regional Airport at McKinney extending from the 6.6-mile radius to 9.2 miles north of the airport, and within a 6.3-mile radius of Rockwall Municipal Airport, and within 1.6 miles each side of the 010° bearing from the Rockwall Municipal Airport extending from the 6.3-mile radius to 10.8 miles north of the airport, and within a 6.5-mile radius of Mesquite Metro Airport, and within 8 miles east and 4 miles west of the 001° bearing from the Mesquite NDB extending from the 6.5-mile radius to 19.7 miles north of the airport, and within 1.7 miles each side of the Mesquite Metro ILS Localizer south course extending from the 6.5-mile radius to 11.1 miles south of the airport, and within a 6.5-mile radius of the Lancaster Airport, and within 8 miles west and 4 miles east of the 129° bearing from the Lancaster NDB extending from the 6.5-mile radius to 16 miles southeast of the NDB, and within 8 miles northeast and 4 miles southwest of the 144° bearing from the Point of Origin extending from the 30-mile radius of Dallas-Fort Worth International Airport to 35 miles southeast of the Point of Origin, and within a 6.5-mile radius of Fort Worth Spinks Airport, and within 8 miles east and 4 miles west of the 178° bearing from Fort Worth Spinks Airport extending from the 6.5-mile radius to 21 miles south of the airport, and within a 6.9-mile radius of Cleburne Municipal Airport, and within 3.6 miles each side of the 292° bearing from the airport extending from the 6.9-mile radius to 12.2 miles northwest of Cleburne Municipal Airport, and within a 6.5-mile radius of Fort Worth's Bourland Field Airport, and within a 6.3-mile radius of Granbury Regional Airport, and within a 6.3-mile radius of Weatherford's Parker County Airport, and within 8 miles east and 4 miles west of the 177° bearing from Parker County Airport extending from the 6.3-mile radius to 21.4 miles south of the airport, and within a 6.3-mile radius of Bridgeport Municipal Airport, and within 1.6 miles each side of the 040° bearing from Bridgeport Municipal Airport extending from the 6.3-mile radius to 10.6 miles northeast of the airport, and within 4 miles each side of the 001° bearing from the Bridgeport Municipal Airport extending from the 6.3-mile radius to 10.7 miles north of the airport, and within a 6.3-mile radius of Decatur Municipal Airport, and within 1.5 miles each side of the 263° bearing from Decatur Municipal Airport extending from the 6.3-mile radius to 9.2 miles west of the airport.

Issued in Fort Worth, Texas, on March 29, 2010.
Walter L. Tweedy,
Acting Manager, Operations Support Group, ATO Central Service Center.

[FR Doc. 2010-7805 Filed 4-7-10; 8:45 am]

BILLING CODE 4910-13-P